NUCLEAR REGULATORY COMMISSION

Advisory Committee on Nuclear Waste; Notice of Meeting

The Advisory Committee on Nuclear Waste (ACNW) will hold its 124th meeting on January 16-18, 2001, at 11545 Rockville Pike, Rockville, Maryland, Room T-2B3.

The entire meeting will be open to public attendance.

The schedule for this meeting is as follows:

Tuesday, January 16, 2001

A. 8:30-10:00 A.M.: Opening Statement/Planning and Procedures (Open)—The Chairman will open the meeting with brief opening remarks. The Committee will then review items under consideration at this meeting and consider topics proposed for future consideration by the full Committee.

B. 10:15-12:00 Noon: Progress on ACNW's Sufficiency Review Application Task Action Plan (TAP) (Open)—The Committee will discuss the ACNW's TAP, its approach to conducting a sufficiency review and its progress on proposed vertical slices.

C. 1:00-2:00 P.M.: Entombment Option for Decommissioning Power Reactors (Open)—The Committee will discuss with cognizant NMSS staff selected issues related to this topic.

D. 2:00-7:00 P.M.: Discussion of Proposed ACNW Reports (Open)—The Committee will discuss proposed ACNW Reports on Entombment, Key Technical Issue Resolution, Staff's Progress on Total Performance Assessment, Annual Research Report to the Commission and other matters considered during this meeting.

Wednesday, January 17, 2001

E. 8:30-8:40 A.M.: Opening Remarks by the ACNW Chairman (Open)—The ACNW Chairman will make opening remarks regarding the conduct of the meeting.

F. 8:40-9:40 A.M.: Institutional Control Status (Open)—The Committee will discuss and hear a presentation from the NRC staff on the status of considerations regarding long-term custodial responsibilities for sites whose license is terminated under restricted release conditions.

G. 9:40-10:50 A.M.: National Research Council Report, “Long-Term Institutional Management of U.S. Department of Energy Legacy Waste Sites” (Open)—The Committee will discuss and hear a presentation by Dr. Thomas S. Leschine, Chairman of The Academy group that authored the report.

H. 11:00-12:30 P.M.: Meeting with the Director, Office of Nuclear Material Safety and Safeguards, (NMSS) (Open)—The Committee will meet with the Director, NMSS to discuss items of mutual interest.

I. 1:30-7:30 P.M.: ACNW 2001 Action Plan (Open)—The Committee will review the ACNW 2000 Action Plan and discuss relevant changes for its 2001 Action Plan.

Thursday, January 18, 2001

J. 8:30-8:35 A.M.: Opening Remarks by the ACNW Chairman (Open)—The ACNW Chairman will make opening remarks regarding the conduct of the meeting.

K. 8:35-11:30 A.M.: Preparation for Meeting with the NRC Commissioners (Open)—The next meeting with the Commissioners is scheduled to be held in the Commission Conference Room in One White Flint North on March 22, 2001. The Committee will review its proposed presentations.

L. 12:30-5:00 P.M.: Discussion of Proposed ACNW Reports (Open)—The Committee will continue its discussion of proposed ACNW reports.

M. 5:00-5:30 P.M.: Miscellaneous (Open)—The Committee will discuss matters related to the conduct of Committee activities and matters and specific issues that were not completed during previous meetings, as time and availability of information permit.

Procedures for the conduct of and participation in ACNW meetings were published in the Federal Register on October 11, 2000 (65 FR 60475). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Howard J. Larson, ACNW (Telephone 301/415-6805), between 8:00 A.M. and 5:00 P.M. EST.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EST at least 10 days before the meeting to ensure the availability of this service. Individuals or organizations requesting this service will be responsible for telephone line charges and for providing the equipment and facilities that they use to establish the videoteleconferencing link. The availability of videoteleconferencing services is not guaranteed.

Dated: December 21, 2000.
Annette Vietti-Cook,
Acting Advisory Committee Management Officer.

[FR Doc. 00-33144 Filed 12-27-00; 8:45 am]

BILLING CODE 7590-01-P